SURFACE TRANSPORTATION BOARD

[Docket No. FD 36079]

CCET, LLC—Lease and Operation Exemption—Rail Line of Norfolk Southern Railway Company in Adams County, Ohio.

CCET, LLC (CCET), a Class III carrier, has filed a verified notice of exemption under 49 CFR 1150.41 to lease from Norfolk Southern Railway Company (NSR) and operate a portion of NSR's CT Line, between milepost CT 62.20, east of Seaman, Ohio, and milepost CT 78.45, at Mineral Springs, Ohio (Line Extension).

CCET and NSR previously entered into a lease agreement on March 14, 2014, under which CCET leased a 24-mile portion of the CT Line between milepost CT 9.0 at Clare, Ohio, and milepost CT 32.83, west of Williamsburg, Ohio.¹ CCET and NSR also entered into an amendment to the lease agreement on December 9, 2014, to extend the lease approximately 29 miles from milepost CT 32.83, west of Williamsburg, Ohio, to milepost CT 62.20, east of Seaman, Ohio.² The parties now desire to further amend the lease to include the Line Extension to the east to allow CCET to pursue additional commercial opportunities.³

¹ See CCET, LLC—Lease & Operation Exemption—Rail Line of Norfolk S. Ry., FD 35810 (STB served Apr. 4, 2014).

² See CCET, LLC—Lease & Operation Exemption—Rail Line of Norfolk S. Ry. in Clermont, Brown, & Adams Ctys.,Ohio, FD 35900 (STB served Feb. 6, 2015).

³ NSR previously discontinued operations over the Line Extension. See Norfolk S. Ry.—Discontinuance of Serv. Exemption—in Adams & Scioto Ctys., Ohio, AB 290 (Sub-No. 373X) (STB served Dec. 3, 2014); Norfolk S. Ry.—Discontinuance of Serv. Exemption—in Clermont, Brown, & Adams Ctys., Ohio, AB 290 (Sub-No. 370X) (STB served Jan. 15, 2015). Upon reaching an agreement with CCET to amend CCET's existing lease to operate the Line Extension, NSR informed the Board that it is reactivating service and its common carrier obligation for the Line Extension. See NSR Notification Letter, Nov. 4, 2016, Norfolk S. Ry.—Discontinuance of Serv. Exemption—in Clermont, Brown, & Adams Ctys., Ohio, AB 290 (Sub-No. 370X).

CCET states that the lease between CCET and NSR does not contain any provision that prohibits, restricts, or would otherwise limit future interchange of traffic with any third-party carrier.

CCET has certified that its projected annual revenues as a result of this transaction will not result in CCET's becoming a Class II or Class I rail carrier and will not exceed $5 million.

CCET states that the lease and operation of the Line Extension will commence on or after December 21, 2016, the effective date of the exemption (30 days after the verified notice of exemption was filed).

If the verified notice contains false or misleading information, the exemption is void ab initio. Petitions to revoke the exemption under 49 U.S.C. 10502(d) may be filed at any time. The filing of a petition to revoke will not automatically stay the effectiveness of the exemption. Petitions for stay must be filed no later than December 14, 2016 (at least seven days before the exemption becomes effective).

An original and 10 copies of all pleadings, referring to Docket No. FD 36079 must be filed with Surface Transportation Board, 395 E Street, SW., Washington, DC 20423-0001. In addition, one copy of each pleading must be served on James H. M. Savage, 22 Rockingham Court, Germantown, MD 20874.

According to CCET, this action is categorically excluded from environmental review under 49 CFR 1105.6(c).

Board decisions and notices are available on our Web site at “WWW.STB.GOV.”

Decided: December 2, 2016.
By the Board, Rachel D. Campbell, Director, Office of Proceedings.
Tammy Lowery,
Clearance Clerk.

[FR Doc. 2016-29347 Filed 12-6-16; 8:45 am]

BILLING CODE 4915-01-P